DEPARTMENT OF LABOR

Employment and Training Administration

[TA-W-41,207]

General Manufacturing Company, Opp, Alabama; Notice of Termination of Investigation

Pursuant to section 221 of the Trade Act of 1974, an investigation was initiated on April 1, 2002, in response to a petition filed by a company official on behalf of workers at General Manufacturing Company, Opp, Alabama.

The date of the petition is February 22, 2002. In accordance with section 223(b) of the Act, no certification may apply to any worker whose last total or partial separation from the subject firm occurred before February 22, 2001, one year prior to the date of the petition. The company official reported that no production occurred after 1999.

Consequently, further investigation would serve no purpose, and the petition is terminated.

Signed in Washington, DC, this 14th day of May, 2002.
Linda G. Poole,
Certifying Officer, Division of Trade Adjustment Assistance.

[FR Doc. 02-15439 Filed 6-18-02; 8:45 am]

BILLING CODE 4510-30-P